DEPARTMENT OF ENERGY

Federal Energy Regulatory Commission

Combined Notice of Filings #1

Take notice that the Commission received the following electric corporate filings:

Docket Numbers: EC22-100-000.

Applicants: Golden Fields Solar I, LLC, Imperial Valley Solar 2, LLC, Innovative Solar 31, LLC, Innovative Solar 47, LLC, Solar Star California XLI, LLC.

Description: Joint Application for Authorization Under Section 203 of the Federal Power Act of Golden Fields Solar I, LLC, et al.

Filed Date: 8/9/22.

Accession Number: 20220809-5150.

Comment Date: 5 p.m. ET 8/30/22.

Take notice that the Commission received the following exempt wholesale generator filings:

Docket Numbers: EG22-202-000.

Applicants: Appaloosa Run Wind, LLC.

Description: Notice of Self-Certification of Exempt Wholesale Generator Status of Appaloosa Run Wind, LLC.

Filed Date: 8/10/22.

Accession Number: 20220810-5075.

Comment Date: 5 p.m. ET 8/31/22.

Docket Numbers: EG22-203-000.

Applicants: Young Wind, LLC.

Description: Young Wind, LLC submits Notice of Self-Certification of Exempt Wholesale Generator Status.

Filed Date: 8/10/22.

Accession Number: 20220810-5076.

Comment Date: 5 p.m. ET 8/31/22.

Docket Numbers: EG22-204-000.

Applicants: Lacy Creek Wind, LLC.

Description: Notice of Self-Certification of Exempt Wholesale Generator Status of Lacy Creek Wind, LLC.

Filed Date: 8/10/22.

Accession Number: 20220810-5080.

Comment Date: 5 p.m. ET 8/31/22.

Docket Numbers: EG22-205-000.

Applicants: Inertia Wind Project, LLC.

Description: Notice of Self-Certification of Exempt Wholesale Generator Status of Inertia Wind Project, LLC.

Filed Date: 8/10/22.

Accession Number: 20220810-5083.

Comment Date: 5 p.m. ET 8/31/22.

Take notice that the Commission received the following electric rate filings:

Docket Numbers: ER22-2626-000.

Applicants: Avista Corporation.

Description: § 205(d) Rate Filing: Avista Corp OATT Errate Schedule 9 to be effective 3/2/2022.

Filed Date: 8/9/22.

Accession Number: 20220809-5113.

Comment Date: 5 p.m. ET 8/30/22.

Docket Numbers: ER22-2627-000.

Applicants: Niagara Mohawk Power Corporation, New York Independent System Operator, Inc.

Description: § 205(d) Rate Filing: Niagara Mohawk Power Corporation submits tariff filing per 35.13(a)(2)(iii: Section 205 SGIA among NYISO, National Grid, Dolan Solar (SA.2720) to be effective 7/27/2022.

Filed Date: 8/10/22.

Accession Number: 20220810-5021.

Comment Date: 5 p.m. ET 8/31/22.

Docket Numbers: ER22-2628-000.

Applicants: Elk Hill Solar 1, LLC.

Description: Tariff Amendment: Cancel Entire Rate Schedule Tariff to be effective 8/11/2022.

Filed Date: 8/10/22.

Accession Number: 20220810-5064.

Comment Date: 5 p.m. ET 8/31/22.

Docket Numbers: ER22-2629-000.

Applicants: Alabama Power Company, Georgia Power Company, Mississippi Power Company.

Description: § 205(d) Rate Filing: Alabama Power Company submits tariff filing per 35.13(a)(2)(iii: Newton Solar LGIA Filing to be effective 8/1/2022.

Filed Date: 8/10/22.

Accession Number: 20220810-5071.

Comment Date: 5 p.m. ET 8/31/22.

Docket Numbers: ER22-2630-000.

Applicants: Midcontinent Independent System Operator, Inc., Great River Energy.

Description: § 205(d) Rate Filing: Midcontinent Independent System Operator, Inc. submits tariff filing per 35.13(a)(2)(iii: 2022-08-10_SA 3668 GRE-WMU 1st Rev T-T & T-L to be effective 8/11/2022.

Filed Date: 8/10/22.

Accession Number: 20220810-5084.

Comment Date: 5 p.m. ET 8/31/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2022.
Debbie-Anne A. Reese,
Deputy Secretary.

[FR Doc. 2022-17691 Filed 8-16-22; 8:45 am]

BILLING CODE 6717-01-P